DEPARTMENT OF ENERGY

Federal Energy Regulatory Commission

[Docket No. RP02-530-001]

Guardian Pipeline, L.L.C.; Notice of Compliance Filing

December 26, 2002.

Take notice that on December 20, 2002 Guardian Pipeline, L.L.C. (Guardian), tendered for filing as part of its FERC Gas Tariff, Original Volume No. 1, the revised tariff sheets, as listed in Appendix A attached to the filing, to be effective February 1, 2003.

Guardian states that in the Order issued November 29, 2002, the Commission generally accepted Guardian's filing, including pro forma tariff sheets, made on September 3, 2002, in Docket No. RP02-530-000 in compliance with Order No. 637 (Order No. 637, Regulations of Short Term Natural Gas Transportation Services and Regulation of Interstate Natural Gas Transportation Services, FERC Stats. & Regs. (CCH) 31,091, Order No. 637-A, FERC Stats. & Regs. (CCH) 31,099, Order No. 637-B, 92 F.E.R.C. (CCH) 61,062 (2000), aff'd in part and remanded in part sub nom., Interstate Natural Gas Ass'n of America v. FERC, 285 F.3d 18 (DC Cir. 2002)) and directed Guardian to file actual tariff sheets, consistent with the directives in the Order, to implement Guardian's Order No. 637 compliance filing. Guardian states that this filing is to comply with the directives set forth in the Order.

Guardian states that copies of this tariff filing are being served on its shippers, the Wisconsin and Illinois public service commissions, and all parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 2, 2003.
Linwood A. Watson, Jr.,
Deputy Secretary.

[FR Doc. 02-33063 Filed 12-31-02; 8:45 am]

BILLING CODE 6717-01-P